DEPARTMENT OF HOMELAND SECURITY

Transportation Security Administration

Revision of Agency Information Collection Activity Under OMB Review: Exercise Information System

AGENCY: Transportation Security Administration, DHS.

ACTION: 30-Day notice.

SUMMARY: This notice announces that the Transportation Security Administration (TSA) has forwarded the Information Collection Request (ICR), Office of Management and Budget (OMB) control number 1652-0057, abstracted below to OMB for review and approval of a revision of the currently approved collection under the Paperwork Reduction Act (PRA). The ICR describes the nature of the information collection and its expected burden for the TSA Exercise Information System (EXIS).

DATES: Send your comments by December 28, 2017. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION: TSA published a Federal Register notice, with a 60-day comment period soliciting comments, of the following collection of information on August 22, 2017, 82 FR 39900. EXIS is a web portal designed to serve stakeholders in the transportation industry in regard to security training exercises. EXIS provides stakeholders with transportation security exercise scenarios and objectives, best practices and lessons learned, and a repository of the user's own historical exercise data for use in future exercises. It also allows stakeholders to design and evaluate their own security exercises based on the unique needs of their specific transportation mode or method of operation. Utilizing and inputting information into EXIS is completely voluntary.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: Exercise Information System (EXIS).

Type of Request: Revision of a currently approved collection.

OMB Control Number: 1652-0057.

Forms(s): NA.

Affected Public: Transportation System Sector.

Abstract: The Exercise Information System (EXIS) is a voluntary, online tool developed by TSA to support the mission of a program developed and implemented by TSA to fulfill requirements of the Implementing Recommendations of the 911 Commission Act of 2007 (9/11 Act).¹ These statutory programs led to the development of the Intermodal Security Training Exercise Program (I-STEP) for the Transportation Systems Sector (TSS). Within the I-STEP program, EXIS is an interactive resource for the TSS.

¹ See 9/11 Act secs. 1407 (public transportation, codified at 6 U.S.C. 1136(a)), 1516 (railroads, codified at 6 U.S.C. 1166), and 1533 (over-the-road buses, codified at 6 U.S.C. 1183).

Number of Respondents: 9,551.

Estimated Annual Burden Hours: An estimated 4,804 hours annually.²

² TSA made an error in its calculations and reported the burden in the 60-day notice as 4,820 hours annually. The correct calculation is 4,804.

Dated: November 22, 2017.
Christina A. Walsh,
TSA Paperwork Reduction Act Officer, Office of Information Technology.

[FR Doc. 2017-25669 Filed 11-27-17; 8:45 am]

BILLING CODE 9110-05-P